DEPARTMENT OF ENERGY

Federal Energy Regulatory Commission

[Docket No. PL07-2-000]

Composition of Proxy Groups for Determining Gas and Oil Pipeline Return on Equity; Notice of Procedures and Agenda for Technical Conference

January 7, 2008.

On November 15, 2007, the Commission issued a notice requesting additional comments in the captioned proceeding solely on the issue of master limited partnership (MLP) growth rates (November 15 Notice).¹ The Commission also established a staff led technical conference to discuss the MLP growth issue, and requested parties interested in serving on a panel to so indicate in their comments. Subsequently, the Commission established January 23, 2008 as the date for the conference. The parties filed their comments and requests for participation on a panel on December 21, 2007.

¹ Composition of Proxy Groups for Determining Gas and Oil Pipeline Return on Equity, 121 FERC ¶ 61,165 (2007).

Staff will conduct the technical conference beginning at 1 p.m. on January 23, 2008 in Hearing Room 1 at 888 First Street, NE., Washington, DC. Based on the parties' requests for participation in a panel, there will be one Panel, consisting of the following eight members: Professor J. Peter Williamson on behalf of the Association of Oil Pipelines, Mr. J. Bertram Solomon on behalf of the American Public Gas Association, Mr. Michael J. Vilbert on behalf of the Interstate Natural Gas Association of America, Mr. Park Shaper and Mr. Yves Siegel on behalf of the National Association of Publicly Traded Partnerships, Mr. Patrick Barry on behalf of the Public Service Commission of New York, Mr. Thomas Horst on behalf of the State of Alaska, and Mr. Paul Moul on behalf of TransCanada Corporation. As stated in the November 15 Notice, the conference is intended to be a working session focused solely on the appropriate growth component to be used in the Commission's Discounted Cash Flow model for determining return on equity.

The agenda for the technical conference is as follows:

1 to 1:15: Introductory Remarks by Staff.

1:15 to 2: Initial Comments by the Panel, with each member limited to five minutes.

2 to 3:15: Staff Directed Discussion with the Panel.

3:15 to 3:30: Break.

3:30 to 4:45: Further questions to the Panel from Staff and “open mike” for questions to the Panel from other attendees.

4:45 to 5: Next steps.

For further information about the conference, please call or e-mail John Robinson (202-502-8288; john.robinson@ferc.gov).

Kimberly D. Bose,
Secretary.

[FR Doc. E8-514 Filed 1-14-08; 8:45 am]

BILLING CODE 6717-01-P